DEPARTMENT OF COMMERCE

National Oceanic and Atmospheric Administration

[RTID 0648-XF524]

South Atlantic Fishery Management Council (Council)—Public Meetings

AGENCY: National Marine Fisheries Service (NMFS), National Oceanic and Atmospheric Administration (NOAA), Commerce.

ACTION: Notice of public meeting.

SUMMARY: The South Atlantic Fishery Management Council (Council) will hold a meeting of its Scientific and Statistical Committee's Social and Economic Panel (SEP) via webinar on February 17, 2026.

DATES: The meeting will be held via webinar February 17, 2026, from 12:45 p.m. until 2:30 p.m.

ADDRESSES:

Meeting address: The meeting will be held via webinar and is open to the public. Registration is required. Webinar registration, an online public comment form, and briefing book materials will be available 2 weeks prior to the meetings at: https://safmc.net/scientific-and-statistical-committee-meeting/.

Council address: South Atlantic Fishery Management Council, 4055 Faber Place Drive, Suite 201, N Charleston, SC 29405.

FOR FURTHER INFORMATION CONTACT: John Hadley, Economist, SAFMC; phone 843/302-8432 or toll free 866/SAFMC-10; FAX 843/769-4520; email: john.hadley@safmc.net.

SUPPLEMENTARY INFORMATION: The SEP meeting agenda includes a review of recent social research that has been conducted with recreational anglers as part of the management strategy evaluation for the Snapper Grouper fishery.

Special Accommodations

These meetings are physically accessible to people with disabilities. Requests for auxiliary aids should be directed to the council office (see ADDRESSES) 3 days prior to the public hearings.

Note: The times and sequence specified in this agenda are subject to change.

(Authority: 16 U.S.C. 1801 et seq.)

Dated: February 4, 2026.
Rey Israel Marquez,
Acting Deputy Director, Office of Sustainable Fisheries, National Marine Fisheries Service.

[FR Doc. 2026-02467 Filed 2-6-26; 8:45 am]

BILLING CODE 3510-22-P